DEPARTMENT OF HEALTH AND HUMAN SERVICES

Office of the Secretary; Office of the Assistant Secretary for Health; Statement of Organization, Functions, and Delegations of Authority

Part A, Office of the Secretary, Statement of Organization, Functions, and Delegations of Authority of the Department of Health and Human Services is being amended at Chapter AC, Office of the Assistant Secretary for Health (OASH), as last amended at 77 FR 2012-30005-30007, dated May 21, 2012. This amendment reflects the realignment of the Medical Reserve Corps from OASH to the Office of the Assistant Secretary for Preparedness and Response and is consistent with authorities established under Sections 1703, 2811(c)(2)(D), and 2813 of the Public Health Service Act, as modified by the Pandemic and All-Hazards Preparedness Reauthorization Act of 2013 (Pub. L. 113-5). The change is as follows.

I. Under Part A, Chapter AC, OASH makes the following changes:

A. Under Section ACM.00, Mission, delete “(7) Maintaining and overseeing the activities of the Volunteer Medical Reserve Corps program (42 U.S.C. 300hh-15).”

B. Under Section ACM.10, Organization, delete “Division of the Civilian Volunteer Medical Reserve Corps (ACM5).”

C. Under Section ACM.20, Functions, delete section “(d) Division of the Civilian Volunteer Medical Reserve Corps (ACM5)” in its entirety.

II. Delegations of Authority. All delegations and redelegations of authority made to officials and employees of affected organizational components will continue in them or their successors pending further redelegation, provided they are consistent with this reorganization.

Dated: November 19, 2014.
Sylvia M. Burwell,
Secretary.

[FR Doc. 2014-28028 Filed 11-25-14; 8:45 am]

BILLING CODE 4150-28-P